FEDERAL ELECTION COMMISSION

Sunshine Act Meeting Notice

AGENCY: Federal Election Commission.

DATE: Wednesday, December 14, 2011 at 10 a.m.

PLACE: 999 E Street NW., Washington, DC.

STATUS: This hearing will be closed to the public.

ITEMS TO BE DISCUSSED: Audits conducted pursuant to 2 U.S.C. .437g, .438(b), and Title 26, U.S.C.

* * * * *

PERSON TO CONTACT FOR INFORMATION: Judith Ingram, Press Officer, Telephone: (202) 694-1220.

Shelley E. Garr,
Deputy Secretary of the Commission.

[FR Doc. 2011-31760 Filed 12-7-11; 4:15 pm]

BILLING CODE 6715-01-P